DEPARTMENT OF THE INTERIOR

Endangered and Threatened Species Permit Applications

AGENCY: Fish and Wildlife Service, Interior.

ACTION: Notice of receipt.

SUMMARY: We announce our receipt of applications to conduct certain activities pertaining to scientific research and enhancement of survival of endangered species.

DATES: Written comments on these requests for permits must be received April 2, 2003.

ADDRESSES: Written data or comments should be submitted to the Assistant Regional Director—Ecological Services, U.S. Fish and Wildlife Service, PO Box 25486, Denver Federal Center, Denver, Colorado 80225-0486; telephone 303-236-7400, facsimile 303-236-0027.

FOR FURTHER INFORMATION CONTACT: Documents and other information submitted with these applications are available for review, subject to the requirements of the Privacy Act and Freedom of Information Act, by any party who submits a written request for a copy of such documents within 20 days of the date of publication of this notice to the address above; telephone 303-236-7400.

SUPPLEMENTARY INFORMATION: The following applicants have requested renewal of scientific research and enhancement of survival permits to conduct certain activities with endangered species pursuant to section 10(a)(1)(A) of the Endangered Species Act of 1973, as amended (16 U.S.C. 1531 et seq.).

Applicant: Paul A. Jankowski, Colorado Department of Transportation, Durango, Colorado, TE-067482.

The applicant requests a permit to take Southwestern willow flycatcher (Empidonax traillii extimus) in conjunction with recovery activities throughout the species' range for the purpose of enhancing their survival and recovery.

Applicant: Edward J. Peters, University of Nebraska, Lincoln, Nebraska, TE-067486.

The applicant requests a permit to take pallid sturgeon (Scaphirhynchus albus) in conjunction with recovery activities throughout the species' range for the purpose of enhancing their survival and recovery.

Applicant: Craig Kling, TRC Mariah Associates, Inc., Laramie, Wyoming, TE-052582.

The applicant requests a permit amendment to add take of American burying beetle (Nicrophorus americanus) in conjunction with recovery activities throughout the species' range for the purpose of enhancing their survival and recovery.

Applicant: Terry Lincoln, Dakota Zoological Society, Bismarck, North Dakota, TE-051815.

The applicant requests a permit amendment to possess pallid sturgeon (Scaphirhychus albus) for public display in conjunction with recovery activities for the purpose of enhancing the species' survival and recovery.

Applicant: Allen Crockett, Walsh Environmental, Golden, Colorado, TE-056101.

The applicant requests a permit amendment to add take of Southwestern willow flycatcher (Empidonax traillii extimus) in conjunction with recovery activities for the purpose of enhancing the species' survival and recovery.

Dated: February 6, 2003.
John A. Blankenship,
Deputy Regional Director, Denver, Colorado.

[FR Doc. 03-4822 Filed 2-28-03; 8:45 am]

BILLING CODE 4310-55-P